COMMISSION ON CIVIL RIGHTS

Sunshine Act Notice

AGENCY: United States Commission on Civil Rights.

ACTION: Notice of meeting.

DATE AND TIME: Friday, October 8, 2010; 9:30 a.m. EDT.

PLACE: 624 9th St., NW., Room 540, Washington, DC 20425.

Meeting Agenda

This meeting is open to the public.

I. Approval of Agenda

II. Program Planning

• Approval of Part A of Briefing Report on English-Only in the Workplace

• Consideration of Findings and Recommendations for Briefing Report on Health Care Disparities

• Consideration of FY 2011 Enforcement Report Topic

• Consideration of Policy on Commissioner Statements and Rebuttals

• Update on New Black Panther Party Enforcement Report

• Update on Sex Discrimination in Liberal Arts College Admissions—Some of the discussion of this agenda item may be held in closed session

• Update on Clearinghouse Project

III. Staff Director's Report

IV. Announcements

V. Approval of Minutes of September 24 Meeting

VI. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: September 28, 2010.
David Blackwood,
General Counsel.

[FR Doc. 2010-24734 Filed 9-28-10; 4:15 pm]

BILLING CODE 6335-01-P